NATIONAL COMMISSION ON LIBRARIES AND INFORMATION SCIENCE

Notice of Meetings

AGENCY: U.S. National Commission on Libraries and Information Science.

ACTION: Notice of meetings.

SUMMARY: The U.S. National Commission on Libraries and Information Science is holding an open business meeting to discuss Commission programs and administrative matters. Commissioners will review programs related to the Commission's strategic initiatives. Each of the Commission's task forces will share progress reports and the Commission will discuss future directions and activities. Topics will include (1) debrief on the symposium at the University of Michigan on Mass Digitization Impacts; (2) debrief on World Summit on the Information Society in Tunis; (3) the 2006 Health Information Awards; (4) the White House Conference on Aging; (5) the Commission's involvement in American Corners; (6) new measures of library performance and impact; (7) relationship between school libraries and educational achievement.

Date and Time: NCLIS Business Meeting—March 11, 2006, 2 p.m.-3 p.m.; March 12, 2006, 9 a.m.-4 p.m.

Addresses: Four Points by Sheraton Ann Arbor, 3200 Boardwalk, Ann Arbor, MI 48108.

Status: Open meeting.

SUPPLEMENTARY INFORMATION: The business meeting is open to the public, subject to space availability. To make special arrangements for physically challenged persons, contact Madeleine McCain, Director of Operations, 1800 M Street, NW., Suite 350 North Tower, Washington, DC 20036, e-mail mmccain@nclis.gov, fax 202-606-9203 or telephone 202-606-9200.

Summary: The U.S. National Commission on Libraries and Information Science is also holding a closed meeting to review budget matters and future directions. Closing this meeting is in accordance with the exemption provided under Title 45, CFR 1703.202(a)(9)

Date and Time: NCLIS Closed Meeting—March 11, 3-6 p.m.

Addresses: Four Points by Sheraton Ann Arbor, 3200 Boardwalk, Ann Arbor, MI 48108.

Status: Closed meeting.

FOR FURTHER INFORMATION CONTACT: Madeleine McCain, Director of Operations, U.S. National Commission on Libraries and Information Science, 1800 M Street, NW., Suite 350 North Tower, Washington, DC 20036, e-mail mmccain@nclis.gov, fax 202-606-9203 or telephone 202-606 9200.

Dated: February 21, 2006.
Trudi Bellardo Hahn,
NCLIS Executive Director.

[FR Doc. E6-2831 Filed 2-28-06; 8:45 am]

BILLING CODE 7528-01-P